DEPARTMENT OF HEALTH AND HUMAN SERVICES

National Institutes of Health

National Institute of Allergy and Infectious Diseases; Notice of Meeting

Pursuant to section 10(a) of the Federal Advisory Committee Act, as amended (5 U.S.C. App.), notice is hereby given of a meeting of the AIDS Research Advisory Committee, NIAID.

The meeting will be open to the public, with attendance limited to space available. Individuals who plan to attend and need special assistance, such as sign language interpretation or other reasonable accommodations, should notify the Contact Person listed below in advance of the meeting.

Name of Committee: AIDS Research Advisory Committee, NIAID, AIDS Vaccine Research Subcommittee, NIAID.

Date: June 3, 2014.

Time: 1:00 p.m. to 5:00 p.m.

Agenda: Presentations by invited speakers to discuss generation of reagents to improve the nonhuman primate model for AIDS vaccine research for the purpose of obtaining advice and guidance from the AVRS on targeting NIAID resources for this purpose.

Place: Omni Shoreham Hotel, Congressional Room A, 2500 Calvert Street NW., Washington, DC 20008.

Contact Person: James A. Bradac, Ph.D., Chief, Preclinical Research and Development Branch, Division of AIDS, Room 5134, National Institutes of Health/NIAID, 6700B Rockledge Drive, Bethesda, MD 20892-7628, 301-435-3754, jbradac@mail.nih.gov.

(Catalogue of Federal Domestic Assistance Program Nos. 93.855, Allergy, Immunology, and Transplantation Research; 93.856, Microbiology and Infectious Diseases Research, National Institutes of Health, HHS)

Dated: April 9, 2014.
David Clary,
Program Analyst, Office of Federal Advisory Committee Policy.

[FR Doc. 2014-08389 Filed 4-14-14; 8:45 am]

BILLING CODE 4140-01-P